DEPARTMENT OF TRANSPORTATION

Federal Transit Administration

Fiscal Year 2015 and 2016 Passenger Ferry Grant Program Project Selections

AGENCY: Federal Transit Administration.

ACTION: Correction: Passenger Ferry Grant Program Announcement of Project Selections.

SUMMARY: The Federal Transit Administration (FTA) is publishing the list of Fiscal Years 2015-2016 Passenger Ferry Project Selections which was inadvertently omitted from the allocation notice published on May 23, 2016, titled “Fiscal Year 2015 and 2016 Passenger Ferry Grant Program Project Selections” (81 FR 32383).

FOR FURTHER INFORMATION CONTACT: Project sponsors should contact the appropriate FTA Regional Office for information regarding applying for the funds made available through this notice. A list of Regional Offices can be found at www.fta.dot.gov.

Carolyn Flowers,
Acting Administrator.

Table 1—FY 2015 and FY 2016 Passenger Ferry Project Selections
State | Recipient | Project ID | Project description | Allocation
CA | Golden Gate Bridge, Highway & Transportation District | D2015-PFGP-001 | The Golden Gate Bridge, Highway and Transportation District will receive funding to modify embarking and disembarking entrances (ramps and gangways) for two vessels at the District's Ferry Terminals. This project will improve operations and safety by providing smoother and quicker off-loading and loading of the vessels, which provide more than 2.5 million passenger trips per year between San Francisco and Marin County | $2,200,000
CA | Los Angeles County Metropolitan Transportation Authority | D2015-PFGP-002 | The Los Angeles County Metropolitan Transportation Authority will receive funding to replace the existing 5,000-square-feet ferry terminal (built in 1968) with a two-story 10,000-square-feet terminal at the City of Avalon Santa Catalina Island. Annually, more than 1.2 million people utilize the Ferry Terminal. This project will help residents access employment opportunities, educational and healthcare centers, as well as social and human services | 4,000,000
CA | San Francisco Bay Area Water Emergency Transportation Authority | D2015-PFGP-003 | The San Francisco Bay Area Water Emergency Transportation Authority (WETA) will receive funding to expand berthing capacity at the Ferry Terminal from four to six berths. WETA currently utilizes 12 vessels operating on four primary routes and provided 2.1 million passenger trips in FY 2014/15. This project will help prevent vessel collisions, as well as provide additional capacity for emergency response/evacuation plans and support existing and future planned water transit services | 4,000,000
FL | Jacksonville Transportation Authority | D2015-PFGP-004 | The Jacksonville Transportation Authority will receive funding to replace the St. Johns River Ferry slips. The new docking equipment will be used for the St. Johns River Ferry, which connects the north and south ends of Florida State Road A1A and serves more than 475,000 riders each year. This project will help to provide ladders of opportunity to the Mayport residents | 6,000,000
GA | Chatham Area Transit Authority | D2015-PFGP-005 | The Chatham Area Transit Authority will receive funding to rehabilitate three vessels and purchases a spare drive system. This project will ensure that the system can deliver high quality transportation services for approximately 750,000 workers, residents, and visitors who travel between downtown Savannah and Hutchinson Island where the Savannah International Trade and Convention Center is located | 713,280
LA | New Orleans Regional Transit Authority | D2015-PFGP-006 | The New Orleans Regional Transit Authority will receive funding to replace a 90-year old ferry terminal located between Louisiana's Central Business District and the historic French Quarter on the east bank of the Mississippi River. The New Orleans Ferry Service serves 858,000 passengers annually, providing a much needed link between residential, educational and commerical areas of New Orleans. This project will increase the efficiency and effectiveness of the transportation system and the movement of workers, bolstering local tourism and supporting ongoing Riverfront development efforts | 5,000,000
MA | Massachusetts Bay Transportation Authority | D2015-PFGP-007 | The Massachusetts Bay Transportation Authority will receive funding to replace the existing sectional steel barge Hingham Commuter Float System. The floats will serve two ferry routes between Hingham and Boston. This project will improve the overall safety of the Hingham dock for more than one million passengers and vessel operators that utilize the two ferry routes throughout Boston | 1,000,000
MA | Massachusetts Department of Transportation | D2015-PFGP-008 | The Massachusetts Department of Transportation will receive funding for the Lynn Commuter Ferry Vessel Acquisition. This project will construct a new 149-passenger vessel to provide year-round commuter ferry service from the Blossom Street Ferry Terminal in Lynn to Central Wharf in Downtown Boston. This project will provide intermodal connections in downtown Boston to jobs, educational opportunities, and health and human services following a successful two-year pilot project for ferry service which saw ridership increase from 13,136 to 14,577 riders | 4,500,000
MD | Baltimore City Department of Transportation | D2015-PFGP-009 | The Baltimore City Department of Transportation will receive funding to improve the Baltimore Charm City Circulator's Harbor Connector. This project will rebrand the Harbor Connector as an extension of Charm City Circulator. The Baltimore Harbor Connector has experienced rapid ridership growth since first starting service with one route in 2010. With three routes in operation, the Harbor Connector averaged 1,013 daily boardings during the first eight months of 2015—a 33.5% increase over the same period in 2014 | 1,356,992
ME | City of Portland | D2015-PFGP-010 | The City of Portland will receive funding to improve the second phase of the Casco Bay Parking Garage built in 1988 to serve passengers of the Casco Bay Island Transit District. This project will improve the safety of passengers and vehicle flow. Annually, the Casco Bay Parking Garage serves over 50,000 users. Located near the Casco Bay Ferry Terminal, the garage is a critical link to interconnected transportation throughout the Portland, Maine area and beyond, providing island and mainland residents access to employment, health care, business and other services | 296,571
NJ | Delaware River and Bay Authority | D2015-PFGP-011 ($933,157); D2016-PFGP-001 ($5,066,843) | The Delaware River and Bay Authority will receive funding to replace four ferry engines. This project will improve the state of good repair of the system, increase reliability of service, improve operational capability by permitting higher cruising speeds, and improve maintenance capabilities. The Cape May—Lewes Ferry service, which is owned and operated by the Delaware River and Bay Authority, is a critical part of the Mid-Atlantic regional transportation infrastructure, carrying approximately 725,000 passengers and 260,000 vehicles annually on a 17-mile route between Cape May, NJ and Lewes, DE | 6,000,000
NJ | New Jersey Transit | D2016-PFGP-002 | New Jersey Transit will receive funding to retrofit the power and propulsion engine systems for seven Catamaran commuter ferry vessels. This project will improve economic benefits, safety and capacity to the approximately 30,000 daily riders who utilize 21 ferry routes throughout New Jersey and New York | 6,000,000
NY | New York City Department of Transportation | D2016-PFGP-003 | The New York City Department of Transportation will receive funding to replace the deck scows (barges) for the Staten Island Ferry Dockbuilding Unit, upgrade the Staten Island Ferry Maintenance Facility Ramps and Racks, and replace the City Island Ferry Loading Access Bridge. These projects will provide access for residents to jobs, education, health care, and other community needs. The Staten Island Ferry is the world's largest passenger-only ferry system and the busiest ferry route in the United States with an annual ridership of nearly 22 million. It operates 24 hours per day, every day of the year, on a route between the St. George Intermodal Ferry Terminal in northern Staten Island and the Whitehall Intermodal Ferry in Lower Manhattan | 6,000,000
WA | King County Department of Transportation | D2016-PFGP-004 | The King County Department of Transportation will receive funding to replace the passenger only ferry docking float and expand the docking capacity to relaunch or start routes from Ballard, Bremerton, Kingston and Southworth to downtown Seattle. This project will improve safety, operations, and service. Currently, King County operates two routes that serve downtown Seattle from West Seattle and Vashon Island. In 2014, combined ridership on these two routes was 467,119, a 5% increase over 2013 | 3,948,000
WA | Kitsap County Public Transportation Benefit Area Authority | D2016-PFGP-005 | The Kitsap County Public Transportation Benefit Area Authority will receive funding to purchase the existing concrete pier and replace the float and ramp located at Port Orchard. This project will provide improved safety and mobility options for approximately four million ferry passengers per year who travel between Annapolis and Bremerton, WA | 4,515,000
WA | Washington State Department of Transportation | D2016-PFGP-006 | The Washington State Department of Transportation will receive funding to replace and expand the pedestrian bridge that connects the main terminal building to the passenger-only terminal. Located in downtown Seattle, this project will improve safety and operations by separating pedestrian and vehicle traffic. The project will increase efficiency and capacity, featuring separated and safer loading for pedestrians and priority loading for bicycles and high-occupancy vehicles. The project will also remove a pier that is at the end of its useful life | 3,444,480
|  |  | Total Allocation | 58,974,323

[FR Doc. 2016-12688 Filed 5-27-16; 8:45 am]

BILLING CODE P